DEPARTMENT OF THE INTERIOR

National Park Service

Notice of Availability of the Record of Decision for the Vessel Quotas and Operating Requirements Environmental Impact Statement, Glacier Bay National Park and Preserve, AK

SUMMARY: The National Park Service (NPS) announces the availability of the Record of Decision (ROD) for the Vessel Quotas and Operating Requirements Environmental Impact Statement (EIS), Glacier Bay National Park and Preserve, Alaska.

The record of decision documents the NPS decision to modify quotas and operating requirements for four types of motorized watercraft—cruise ships, tour, charter, and private vessels—in Glacier Bay National Park and Preserve. The decision addresses the continuing demand for motorized watercraft access into Glacier Bay in a manner that protects park resources and values while also providing a range of opportunities for visitors consistent with park purposes and values. It was based on consideration of the park's purposes and mission, resources and values, NPS policies, comments received throughout the EIS process, and information and analysis in the EIS.

The ROD briefly discusses the background for the planning effort, describes the six alternatives considered during the EIS process, states the decision and discusses the basis for it, specifies and describes the environmentally preferable alternative, identifies measures to minimize potential environmental harm, identifies ongoing and future studies and monitoring, and summarizes the results of public involvement during the planning process.

The NPS has selected alternative 6, as described in the FEIS, with the following modifications:

• The July 1 through August 21 timeframe during which a 0.25-nautical-mile vessel approach distance to a seal hauled out on ice in Johns Hopkins Inlet waters will be retained as in current regulations and will not be extended to year-round.

• A 13-knot speed limit for vessels greater than or equal to 262 feet (80 meters) will be in effect in Glacier Bay as needed, rather than a year-round basis.

• Existing conditions do not support immediate implementation of motor vessel limits in Dundas Bay. Studies and monitoring are insufficient to support the need for limits at this time. The Park Service will impose limits when a clearer need is established. The Park Service will undertake study and monitoring of use and resource conditions in Dundas Bay.

ADDRESSES: Copies of the ROD are available on request from: Nancy Swanton, EIS Project Manager, National Park Service, Glacier Bay National Park and Preserve, c/o 240 West 5th Avenue, Anchorage, Alaska 99501. Telephone: (907) 644-3696.

FOR FURTHER INFORMATION CONTACT: Nancy Swanton, EIS Project Manager, National Park Service, Glacier Bay National Park and Preserve, c/o 240 West 5th Avenue, Anchorage, Alaska 99501. Telephone: (907) 644-3696.

SUPPLEMENTARY INFORMATION: The NPS prepared an EIS, as required, under the National Environmental Policy Act (NEPA) of 1969 and Council of Environmental Quality regulations (40 Code of Federal Regulations [CFR] 1500).

A Notice of Intent to prepare an EIS, published in the Federal Register (FR) in May 6, 2002 (67 FR 8313), formally initiated the National Park Service planning and EIS effort. The draft EIS (DEIS) was issued in March 2003. A Federal Register notice announcing the availability of the final EIS (FEIS) was published by the U.S. Environmental Protection Agency on October 10, 2003, commencing the required 30-day no-action period (68 FR 58668). The final EIS describes and analyzes the environmental impacts of five action alternatives and a no-action alternative. The NPS has selected alternative 6, as described in the FEIS, with the three modifications listed above. The selected alternative is described below.

Vessel Quotas

The current daily vessel quotas in Glacier Bay will not change. They will continue as follows: two cruise ships, three tour vessels, six charter vessels, and 25 private vessels. Daily quotas for cruise ships and tour vessels will continue to apply year-round. Daily quotas for charter and private vessels will continue to apply from June 1 through August 31.

Seasonal entry quotas will be eliminated. Seasonal-use day quotas will continue to apply. For cruise ships, the seasonal-use day quota will be 139 from June 1 through August 31, with potential for increases to a maximum of 184. In May and September, the seasonal-use day quota for cruise ships will be 92, with potential for increases up to 122 (see table 1). Any increases will be incremental and based on scientific and other information and applicable authorities. The seasonal-use day quota for tour, charter, and private vessels is the allowable daily vessel quota multiplied by the number of days in the season. The season during which seasonal-use days will apply for these three types of vessels is June 1 through August 31 (92 days). Thus, the seasonal-use day quotas for tour, charter, and private vessels are:

• 276 for tour vessels (three per day multiplied by 92 days).

• 552 for charter vessels (six per day multiplied by 92 days).

• 2,300 for private vessels (25 per day multiplied by 92 days).

Table 1.—Summary of Vessel Quotas for Glacier Bay, May 1-September 30 ¹
Vessel class | Daily vessel quota: June-Aug. | Daily vessel quota: May and Sept. | Seasonal-use days: June-Aug. | Seasonal-use days: May and Sept.
Cruise ship ¹ | 2 | 2 | ⁴ 139 | ⁵ 92
Tour vessel ¹ | 3 | 3 | 276 | 183
Charter vessel ² | 6 | (³) | 552 | (³)
Private vessel ² | 25 | (³) | 2,300 | (³)
¹ Cruise ships and tour vessels are limited to the daily vessel quota year-round.
² Charter and private vessels are not subject to quotas from September through May.
³ No limit.
⁴ Potentially up to 184.
⁵ Potentially up to 122.

Vessel Operating Requirements

The NPS is revising operating requirements, as described below. These revisions are intended to protect park resources and values, improve visitor experience, and simplify regulations.

Permitting Procedures. Permits will be issued to a designated individual for a specific vessel over a specific period of time, rather than issued to a vessel.

The exemption for private vessels based in Bartlett Cove to enter and exit Glacier Bay (these are not currently counted as daily entries) without a permit will be eliminated entrance to Glacier Bay.

Up to 10 permits may be issued to private vessels on “short-notice” daily. This number may be adjusted annually through use of the park compendium. These permits will be issued, on a space available basis, to any individual who requests a permit within 48 hours of entering Glacier Bay.

Speed Restrictions.

• The superintendent may impose a 13-knot speed limit, as necessary, for motor vessels greater than or equal to 262 feet (80 meters) in length throughout Glacier Bay because of the presence of humpback whales. Park Service staff will monitor whale abundance, movements, and distribution, and provide this information to the park superintendent, who will determine whether to set a 13-knot speed limit for vessels of this length or greater.

• From May 15 through September 30, in lower Bay whale waters, operating a motor vessel at more than 20 knots through the water will be prohibited.

• At any time of year in waters of Glacier Bay or Dundas Bay, the following will be prohibited: operating a motor vessel at more than 13 knots through the water when and where the superintendent has designated a maximum speed of 13 knots because of the presence of whales.

Whale Water Geographic Locations. Whale waters would be designated within the current lower Glacier Bay waters from May 15 through September 30. As authorized in current regulations, the superintendent may designate temporary whale waters and impose motor vessel speed restrictions in whale waters in any portion of Glacier Bay or Dundas Bay.

Measurement of Vessel Speed. Vessel speed will be measured as “through the water,” the same as specified in current regulations.

Closed Waters, Islands, and Other Areas. No additional waters, islands, or other areas will be closed to all motor vessels under this decision.

Non-Motorized (Closed) Waters for Cruise Ships. Additional waters closed to cruise ships are Beardslee Entrance and the entrance to Adams Inlet in Glacier Bay.

Non-Motorized (Closed) Waters for Tour Vessels. Additional waters closed to tour vessels are Beardslee Entrance and the entrance to Adams Inlet in Glacier Bay.

Ferry Vessel Operating Requirements. Per section 127, Public Law 105-83, the ferry is restricted to the sole purpose of accessing the Bartlett Cove dock. The ferry will be subject to speed, distance from coastlines, and other operating requirements common to all vessel types. The ferry may not deviate from a direct course between the mouth of Glacier Bay and Bartlett Cove.

Vessel Routes. No vessel routes will be established except in designated whale waters (i.e., the lower Bay whale waters), and following language in the current regulations will remain unchanged: “Except on vessels actually fishing as otherwise authorized by the superintendent or vessels operating solely under sail, while in transit, operators of motor vessels over 18 feet in length will in all cases where the width of the water permits, maintain a distance of at least one nautical mile from shore, and, in narrower areas will navigate in mid-channel: Provided, however, that unless other restrictions apply, operators may perpendicularly approach or land on shore (i.e., by the most direct line to shore) through designated whale waters.”

Harbor Seal Vessel Approach Distance in Johns Hopkins Inlet. This will remain unchanged from the current regulations. That language is as follows: “The following is prohibited: operating a vessel or a seaplane on Johns Hopkins Inlet waters south of 58 deg. 54.2 latitude (an imaginary line running approximately due west from Jaw Point), within 0.25 nautical mile of a seal hauled out on ice; except when safe navigation requires, and then with due care to maintain the 0.25 nautical mile distance from concentrations of seals.” This regulation will continue to apply from July 1 through August 31. (Note: In accordance with the current regulations, which will not be changed with this decision, Johns Hopkins Inlet waters are closed to cruise ships from May 1 to August 31 and to all vessels from May 1 to June 30.)

Deviation from Vessel Operating Requirements. Deviation from vessel operating requirements may be made when the safety of passengers or the vessel is immediately threatened. Where possible, operators shall notify the Park Service before the deviation. In all cases, notifications must be made as soon as it is safe to do so.

Implementation of the decision will require promulgation of regulations, revising 36 CFR 13.65. Draft regulations are planned to be published for public comment in 2004, and final regulations are anticipated by early 2005.

Dated: November 26, 2003.
Thomas J. Ferranti,
Acting Regional Director, Alaska.

[FR Doc. 03-30930 Filed 12-16-03; 8:45 am]

BILLING CODE 4312-HX-M